DEPARTMENT OF THE INTERIOR

Bureau of Land Management

[CA-310-0777-XG]

Notice of Public Meeting: Northwest California Resource Advisory Council

AGENCY: Bureau of Land Management, Interior.

ACTION: Notice of public meeting.

SUMMARY: In accordance with the Federal Land Policy and Management Act of 1976 (FLPMA), and the Federal Advisory Committee Act of 1972 (FACA), the U.S. Department of the Interior, Bureau of Land Management (BLM) Northwest California Resource Advisory Council will meet as indicated below.

DATES: The meeting will be held Thursday and Friday, July 17 and 18, 2003, at the Best Western Tree House Inn, 111 Morgan Way, Mt. Shasta, California. On July 17, the meeting convenes at 10 a.m for a field trip to public lands managed by the BLM Redding Field Office. Members of the public are welcome. They must provide their own transportation and lunch. On July 18, the meeting begins at 8 a.m. in the Conference Center of the Best Western Tree House Inn. Time for public comments has been set aside for 1 p.m. on July 18.

FOR FURTHER INFORMATION CONTACT: Rich Burns, BLM Ukiah field manager, 2550 North State Street, Ukiah, CA, (707) 468-4000; or BLM Public Affairs Officer Joseph J. Fontana, telephone (530) 252-5332.

SUPPLEMENTARY INFORMATION: The 12-member council advises the Secretary of the Interior, through the BLM, on a variety of planning and management issues associated with public land management in Northwest California. At this meeting, agenda topics will include an update on BLM's development of grazing policies, a report from the RAC Chairs meeting held in Washington, DC and RAC development of guidelines for wind energy projects on northwest California public lands. Managers of the BLM Redding, Arcata and Ukiah field offices will present status reports.

All meetings are open to the public. Members of the public may present written comments to the council. Each formal council meeting will have time allocated for public comments. Depending on the number of persons wishing to speak, and the time available, the time for individual comments may be limited. Individuals who plan to attend and need special assistance, such as sign language interpretation and other reasonable accommodations, should contact the BLM as provided above.

Dated: April 30, 2003.
Joseph J. Fontana,
Public Affairs Officer.

[FR Doc. 03-11248 Filed 5-6-03; 8:45 am]

BILLING CODE 4310-40-P